DEPARTMENT OF THE INTERIOR

Bureau of Reclamation

[RR83570000, 145R5065C6, RX.59389832.1055700]

Agency Information Collection Activities Under OMB Review; Renewal of a Currently Approved Collection (OMB Control Number 1006-0028)

AGENCY: Bureau of Reclamation, Interior.

ACTION: Notice and request for comments.

SUMMARY: We, the Bureau of Reclamation, have forwarded the following Information Collection Request to the Office of Management and Budget (OMB) for review and approval: Recreation Visitor Use Surveys, OMB Control Number 1006-0028. The Information Collection Request describes the nature of the information collection and its expected cost burden.

DATES: OMB has up to 60 days to approve or disapprove this Information Collection Request, but may respond after 30 days; therefore, public comments must be received on or before January 28, 2015.

ADDRESSES: Send written comments to the Desk Officer for the Department of the Interior at the Office of Management and Budget, Office of Information and Regulatory Affairs, via facsimile to (202) 395-5806, or email to oira_submission@omb.eop.gov. A copy of your comments should also be directed to Jerome Jackson, Bureau of Reclamation, 84-57000, P.O. Box 25007, Denver, CO 80225-0007, or via email to jljackson@usbr.gov. Please reference OMB Control Number 1006-0028 in your comments.

FOR FURTHER INFORMATION CONTACT: Jerome Jackson, Bureau of Reclamation, at (303) 445-2712. You may also view the Information Collection Request at www.reginfo.gov.

SUPPLEMENTARY INFORMATION:

I. Abstract

The Bureau of Reclamation is responsible for recreation development at all of its reservoirs. Presently, there are 289 designated recreation areas on our lands within the 17 Western States. We must be able to respond to emerging trends, changes in the demographic profile of users, changing values, needs, wants and desires, and conflicts between user groups. Statistically valid and up-to-date data derived from the user is essential to developing and providing recreation programs relevant to today's visitor.

The required 60-day comment period for the Recreation Visitor Use Surveys was initiated by a notice published in the Federal Register on August 14, 2014 (79 FR 47673). No comments were received.

II. Data

OMB Control Number: 1006-0028.

Title: Recreation Visitor Use Surveys.

Frequency: Varies by survey.

Respondents: Respondents to the surveys will be members of the public engaged in recreational activities on our lands. The surveys target people engaged in specific activities such as boating on a specific lake/river, or people camping at a developed campground. Visitors will primarily consist of local residents, people from large metropolitan areas in the vicinity of the lake/river, and visitors from out of state.

Estimated Total Number of Respondents: 6,141.

Estimated Number of Responses per Respondent: 1.0.

Estimated Total of Annual Responses: 6,141.

Estimated Total Annual Burden Hours on Respondents: 2,044.

Estimate of Burden for Each Form
Survey instrument | Burden estimate per survey (in minutes) | Number of surveys (times/yr.) | Number of respondents per survey | Total estimated number of respondents | Total annual hour burden
Marina Survey | 20 | 2 | 278 | 556 | 185
Campground Survey | 25 | 2 | 278 | 556 | 232
River Instream Flow Survey | 25 | 2 | 278 | 556 | 232
Reservoir Preferred Water Level Survey | 25 | 2 | 278 | 556 | 232
Lake/River Visit Expenditure Survey | 15 | 2 | 278 | 556 | 139
Recreation Activities Survey | 25 | 2 | 278 | 556 | 232
Recreation Management Survey | 20 | 2 | 278 | 556 | 185
Recreation Fee Survey | 10 | 1 | 581 | 581 | 97
Recreation Development Survey | 10 | 2 | 278 | 556 | 93
Water Level Impacts on Recreation Boating Use | 20 | 2 | 278 | 556 | 185
River Recreation Quality Survey | 25 | 2 | 278 | 556 | 232
Totals |  |  |  | 6,141 | 2,044

In addition, there are an estimated 1,575 number of contacts who will not respond. These non-respondents account for 13 total burden hours per year.

III. Request for Comments

We invite comments concerning this information collection on:

(a) Whether the proposed collection of information is necessary for the proper performance of our functions, including whether the information will have practical use;

(b) The accuracy of our burden estimate for the proposed collection of information, including the validity of the methodology and assumptions used;

(c) Ways to enhance the quality, usefulness, and clarity of the information to be collected; and

(d) Ways to minimize the burden of the collection of information on respondents.

We will summarize written responses to this notice and address them in our submission for OMB approval. As a result of your comments, we will make any necessary adjustments to the burden in our submission to OMB.

An agency may not conduct or sponsor, and a person is not required to respond to a collection of information unless it displays a currently valid OMB control number. Reclamation will display a valid OMB control number on the forms.

IV. Public Disclosure of Comments

Before including your address, phone number, email address, or other personal identifying information in your comment, you should be aware that your entire comment—including your personal identifying information—may be made publicly available at any time. While you can ask us in your comment to withhold your personal identifying information from public review, we cannot guarantee that we will be able to do so.

Dated: December 16, 2014.
Karl Stock,
Acting Director, Policy and Administration.

[FR Doc. 2014-30294 Filed 12-24-14; 8:45 am]

BILLING CODE 4332-90-P